DEPARTMENT OF THE INTERIOR

Bureau of Land Management

Notice of Availability of Draft Resource Management Plan/Environmental Impact Statement for the Sloan Canyon National Conservation Area

AGENCY: Bureau of Land Management, Interior.

ACTION: Notice of availability.

Cooperating Agencies: Nevada Department of Wildlife, Nevada State Historic Preservation Office, Clark County Department of Comprehensive Planning, City of Henderson, City of Boulder City, Las Vegas Paiute Tribe, Paiute Indian Tribe of Utah, Fort Mojave Indian Tribe.

SUMMARY: Pursuant to the National Environmental Policy Act (NEPA) of 1969, the Federal Land Policy and Management Act (FLPMA) of 1976, and the Clark County Conservation of Public Land and Natural Resources Act of 2002 (Clark County Act) (Pub. L. 107-282), the Bureau of Land Management (BLM) has prepared a Draft RMP/EIS to analyze alternative approaches to management of the Sloan Canyon National Conservation Area (NCA).

DATES: Written comments on the Draft Resource Management Program Environmental Impact Statement (RMP/EIS) will be accepted for 90 days following the date of publication of the Notice of Availability by the Environmental Protection Agency in the Federal Register. Future meetings or hearings and any other public involvement activities will be announced at least 15 days in advance through public notices, media news releases, and/or mailings.

ADDRESSES: You may submit comments by any of the following methods:

• Web site: http://www.sloancanyon.org.

• E-mail: charles_carroll@nv.blm.gov.

• Fax: (702) 515-5023 (Attn: Sloan Canyon NCA).

• Mail: Bureau of Land Management, Las Vegas Field Office, Attn: Sloan Canyon NCA, 4701 North Torrey Pines Drive, Las Vegas, NV 89130-2301.

Individual respondents may request confidentiality. If you wish to withhold your name and street address from public review or from disclosure under the Freedom of Information Act, you must state this prominently at the beginning of your written comment. Such requests will be honored to the extent allowed by law. All submissions from organizations and businesses, and from individuals identifying themselves as representatives or officials of organizations and businesses, will be available for public inspection in their entirety. Copies of the Draft RMP/EIS are available on the Web site and upon request. The Draft RMP/EIS is available for review at public information repositories (BLM Nevada State Office in Reno, Paseo Verde Library in Henderson, Boulder City Library in Boulder City, North Las Vegas Library—Main Branch in North Las Vegas, and Summerlin Library in Las Vegas), and at the BLM Las Vegas Field Office at the address above.

FOR FURTHER INFORMATION CONTACT: For further information and/or to have your name added to the mailing list, visit the web site or contact: Charles Carroll, BLM Las Vegas Field Office, Telephone (702) 515-5000, and e-mail charles_carroll@nv.blm.gov.

SUPPLEMENTARY INFORMATION: In November 2002 Congress designated the Sloan Canyon NCA to preserve and protect a portion of southern Nevada's Mojave Desert as a permanent asset for future generations. The Clark County Act established both the Sloan Canyon NCA of 48,438 acres and the North McCullough Wilderness Area (14,763 acres entirely contained within the NCA), which are located southeast of the City of Las Vegas, adjacent to the City of Henderson in Clark County, Nevada. The Clark County Act requires the BLM to develop a plan for the appropriate use and management of the Sloan Canyon NCA and Wilderness within three years of enactment. The Draft RMP/EIS fulfills the needs and obligations set forth by NEPA, FLPMA, the Clark County Act, and BLM management policies described in the Las Vegas RMP of 1998. Upon completion, this RMP/EIS will amend the Las Vegas RMP regarding management of the 48,438 acres within Sloan Canyon NCA and North McCullough Wilderness Area. The management alternatives considered in the Draft RMP/EIS include: Continuing current management practices (no action alternative), an alternative that emphasizes natural character, one that allows moderate developed use while maintaining natural character, and another that emphasizes developed uses. The no action alternative is required by NEPA, and would continue current management as described in the Las Vegas RMP, in conjunction with the requirements of the Clark County Act. The alternatives contain both land use planning decisions and implementing decisions to provide planning structure to facilitate management of the Sloan Canyon NCA. The analysis of the alternatives includes an evaluation of indirect, direct, and cumulative impacts.

Major resources and activities addressed in the Draft RMP/EIS include: Recreation, the North McCullough Wilderness Area, cultural resources, special designations, visual resources, interpretation, facilities, lands and realty, transportation, vegetation management, wildlife management, wildland fire management, water resources and quality, air quality, livestock grazing, geology and soils, minerals, abandoned mines, hazardous materials, and socioeconomics and environmental justice.

Dated: January 10, 2005.
Helen Hankins,
Field Manager, Las Vegas.

[FR Doc. 05-5880 Filed 3-24-05; 8:45 am]

BILLING CODE 5865-DP-P